DEPARTMENT OF COMMERCE

International Trade Administration

[A-469-823]

Utility Scale Wind Towers From Spain: Rescission of Antidumping Duty Administrative Review; 2022-2023

AGENCY: Enforcement and Compliance, International Trade Administration, Department of Commerce.

SUMMARY: The U.S. Department of Commerce (Commerce) is rescinding the administrative review of the antidumping duty (AD) order on utility scale wind towers (wind towers) from Spain for the period of review (POR) August 1, 2022, through July 31, 2023.

DATES: Applicable February 23, 2024.

FOR FURTHER INFORMATION CONTACT: Christopher Maciuba, AD/CVD Operations, Office V, Enforcement and Compliance, International Trade Administration, U.S. Department of Commerce, 1401 Constitution Avenue NW, Washington, DC 20230; telephone: (202) 482-0413.

SUPPLEMENTARY INFORMATION:

Background

On August 26, 2020, Commerce published in the Federal Register the AD order on wind towers from Spain.¹ On August 2, 2023, Commerce published in the Federal Register a notice of opportunity to request an administrative review of the AD order on wind towers from Spain.² On August 31, 2022, the Wind Tower Trade Coalition (the petitioner) submitted a timely request that Commerce conduct an administrative review.³

¹ See Utility Scale Wind Towers from Canada, Indonesia, the Republic of Korea, and the Socialist Republic of Vietnam: Antidumping Duty Orders, 85 FR 52546 (August 26, 2020) (Order), corrected in Utility Scale Wind Towers from Canada, Indonesia, the Republic of Korea, and the Socialist Republic of Vietnam: Notice of Correction to the Antidumping Duty Orders, 85 FR 56213 (September 11, 2020).

² See Antidumping or Countervailing Duty Order, Finding, or Suspended Investigation; Opportunity to Request Administrative Review and Join Annual Inquiry Service List, 88 FR 50840 (August 2, 2023).

³ See Petitioner's Letter, “Request for Administrative Review,” dated August 31, 2023.

On October 18, 2023, Commerce published in the Federal Register a notice of initiation of administrative review with respect to imports of wind towers from Spain in accordance with section 751(a) of the Tariff Act of 1930, as amended (the Act) and 19 CFR 351.221(c)(1)(i).⁴ This review covers subject merchandise exported and/or produced by Acciona Energia, Acciona Windpower S.A., Industrial Barranquesa, S.A., Gamesa Energy Transmission S.A., GE Renewable Energy, GRI Renewable Industries S.L., Haizea Wind Group, Iberdrola, S.A., Iberdrola Renovables Energia S.A., Nordex SE, Nordex Energy Spain S.A., Siemens Gamesa Renewable Energy Inc., Vestas Eolica S.A.U., Vestas Eolica, S.A., Vestas Manufacturing Spain S.L.U., Vestas Control Systems Spain S.L.U., Vestas Wind Systems A/S, and Windar Renovables, S.A.⁵ On October 24, 2023, we placed on the record U.S. Customs and Border Protection (CBP) data for entries of wind towers from Spain during the POR, showing no reviewable POR entries and invited interested parties to comment.⁶

⁴ See Initiation of Antidumping and Countervailing Duty Administrative Reviews, 88 FR 71829 (October 18, 2023).

⁵ Id., 88 FR at 71832.

⁶ See Memorandum, “Release of Customs and Border Protection Data Query,” dated October 24, 2023.

On October 31, 2023, the petitioner filed comments with respect to the CBP data.⁷ On November 17, 2023, Acciona Generación Renovable, S.A. (formerly Acciona Energia, S.A.) (Acciona) submitted a no-shipment certification, indicating that it had no exports or sales of subject merchandise to the United States during the POR.⁸

⁷ See Petitioner's Letter, “Comments on CBP Data and Respondent Selection” dated October 31, 2023.

⁸ See Acciona's Letter, “No Shipment Certification,” dated November 17, 2023.

On December 7, 2023, Commerce notified all interested parties of its intent to rescind the instant review because there were no reviewable, suspended entries of subject merchandise by any of the companies subject to this review during the POR and invited interested parties to comment.⁹ We did not receive any comments.

⁹ See Memorandum, “Notice of Intent to Rescind Review,” dated December 7, 2023.

Rescission of Review

Pursuant to 19 CFR 351.213(d)(3), it is Commerce's practice to rescind an administrative review of an AD order when there are no reviewable entries of subject merchandise during the POR for which liquidation is suspended.¹⁰ Normally, upon completion of an administrative review, the suspended entries are liquidated at the AD assessment rate calculated for the review period.¹¹ Therefore, for an administrative review to be conducted, there must be a reviewable, suspended entry that Commerce can instruct CBP to liquidate at the AD assessment rate calculated for the review period.¹² As noted above, there were no entries of subject merchandise for the companies subject to this review during the POR. Accordingly, in the absence of suspended entries of subject merchandise during the POR, we are hereby rescinding this administrative review, in its entirety, in accordance with 19 CFR 351.213(d)(3).

¹⁰ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

¹¹ See 19 CFR 351.212(b)(1).

¹² See 19 CFR 351.213(d)(3).

Assessment

Commerce will instruct CBP to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as the only reminder to parties subject to administrative protective order (APO) of their responsibility concerning the disposition of proprietary information disclosed under APO, in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: February 16, 2024.
James Maeder,
Deputy Assistant Secretary for Antidumping and Countervailing Duty Operations.

[FR Doc. 2024-03742 Filed 2-22-24; 8:45 am]

BILLING CODE 3510-DS-P